DEPARTMENT OF THE INTERIOR

National Park Service

[NPS-PWR-PWRO-20008; PX.PR113509L.00.1]

Final General Management Plan/Wilderness Study/Environmental Impact Statement: Hawaii Volcanoes National Park, Hawaii

AGENCY: National Park Service, Interior.

ACTION: Notice of availability.

SUMMARY: The National Park Service (NPS) has prepared a Final Environmental Impact Statement (FEIS) for the General Management Plan (GMP) for Hawaii Volcanoes National Park (Hawaii Volcanoes NP or park). This FEIS describes and analyzes three GMP alternatives that respond to public concerns and issues identified during the overall public engagement process. Each alternative presents management strategies for resource protection and preservation, education and interpretation, visitor use and facilities, land protection and boundaries, and long-term operations and management of Hawaii Volcanoes NP. The potential environmental consequences of all the alternatives, and mitigation strategies, are analyzed and the “environmentally preferred” alternative is identified. The proposed GMP also includes a wilderness study (WS) which analyzes wilderness suitability of park lands and includes a recommendation for wilderness designation. With due consideration for the minimal public and agency response to the Draft EIS (no substantive new information has been received), the NPS has utilized an abbreviated format in preparing the FEIS. Upon approval, this GMP will supersede the 1975 Master Plan.

DATES: The NPS will execute a Record of Decision not sooner than April 11, 2016 after the U.S. Environmental Protection Agency's notice of filing for this FEIS.

ADDRESSES: Printed copies of both the Draft and Final GMP/WS/EIS will be available for public inspection at local public libraries; an electronic version of the final document is also available on the GMP project Web site (http://parkplanning.nps.gov/havo). A limited number of printed copies of each document are available upon written request to: Superintendent, Hawaii Volcanoes National Park, P.O. Box 52, Hawaii National Park, HI 96718-0052.

FOR FURTHER INFORMATION CONTACT: Cindy Orlando, Superintendent, Hawaii Volcanoes National Park, P.O. Box 52, Hawaii National Park, HI 96718-0052 or via telephone at (808) 985-6026.

SUPPLEMENTARY INFORMATION:

Background: A Notice of Intent announcing preparation of the EIS for the GMP was published in the Federal Register on April 13, 2009. During spring 2009, the NPS distributed approximately 8,500 newsletters describing the GMP process and soliciting feedback on issues which should be addressed. A comprehensive scoping outreach effort elicited public comment regarding issues and concerns, the nature and extent of potential environmental impacts, and possible alternatives that should be addressed in the preparation of the GMP. Agencies, organizations, governmental representatives, and Native Hawaiian organizations were sent letters of invitation to attend the public workshops or stakeholder meetings. Press releases were distributed to local and regional news media, and local radio stations aired public service announcements. News articles featuring these meetings were published in West Hawaii Today, Hawaii Tribune Herald, and the Kau Calendar.

The NPS held seven public meetings on the islands of Hawaii, Oahu and Maui in April and May 2009 to provide the public with an opportunity to learn about the GMP project and to offer comments; a total of 95 people attended the meetings. The park also conducted several stakeholder meetings to obtain input from representatives of city, county, and federal agencies, business and community organizations, Native Hawaiian organizations, and research permit holders. Park staff also gave poster presentations at local meetings of the Kau Chamber of Commerce, Volcano Community Association, and Friends of Hawaii Volcanoes National Park. Altogether during the 2009 scoping phase, the park planning team spoke with approximately 2000 people at public and stakeholder meetings and park and community events. Correspondence received from over 130 individuals and organizations engendered approximately 1,250 specific comments.

During August 2011, the NPS distributed a Draft Alternatives Newsletter, which outlined concepts and actions in the preliminary GMP alternatives and proposed management zones, and explained the completed wilderness eligibility process and the subsequent wilderness study that would be included in the Draft EIS (DEIS). The Newsletter contained a business reply questionnaire option to facilitate public comments. In addition to the planning schedule included in the Newsletter, information was distributed to local and regional press media in advance of the public meetings and articles were printed in three local papers: West Hawaii Today, Hawaii Tribune Herald, and the Kau Calendar.

Expanding the scope of the EIS was announced in the Federal Register on December 2, 2011. The scope of analysis was expanded to include a wilderness study in order to evaluate foreseeable effects associated with possible designation of additional wilderness within the park. This notification also formally extended the GMP preliminary alternatives comment period through January 2, 2012, in order to gain additional comments about wilderness and the recently evaluated wilderness-eligible lands within the Kahuku Unit. The NPS undertook additional public involvement at the draft alternatives phase to ensure ample opportunity for formal scoping for the wilderness study. During this phase the park planning team described the wilderness eligibility analysis that had been completed for the Kahuku Unit and elicited public comments specifically focused on the wilderness study.

The NPS conducted five public open house and stakeholder meetings; a total of 66 people participated. Overall the NPS received 72 written responses in the form of letters, emails, comment forms, and comments submitted on the PEPC Web site. All comments received were reviewed by the GMP team to inform preparation of the DEIS/GMP/WS. A summary of public comments on the preliminary alternatives and wilderness study was created and made available to the public in February 2012.

The 60 day review period for the DEIS/GMP/WS was formally initiated through publication by the U.S. Environmental Protection Agency of its Notice of Availability in the Federal Register on May 1, 2015. A press release announcing availability of the document was distributed to local and regional news media on April 30, 2015. Electronic and printed copies of the draft plan were available on NPS Web sites and at public libraries, as well through distribution to state congressional offices, Native Hawaiians, governmental agencies, and other interested organizations and individuals. The NPS also distributed the DEIS/GMP/WS Executive Summary Newsletter #4 to over 800 contacts on the GMP mailing list.

The NPS held a “talk story” session and formal wilderness hearing on June 10, 2015, at the Kīlauea Visitor Center; approximately 20 people participated in these meetings and provided oral comments. The “talk story” session is a traditional Hawaiian practice which is similar to an open house information meeting. The wilderness hearing was facilitated by the NPS, and an independent court reporter conducted the proceedings and responded to questions about wilderness protection and management and recorded formal comments regarding the Wilderness Study. This talk story session and wilderness hearing was announced via the Newsletter, the project Web site, and a separate press release that was distributed to media on June 5, 2015.

Throughout the public review period, the public had opportunities to provide comments through attending the talk story session and wilderness hearing, submitting comments on NPS Web sites, writing a letter or email, or providing comments on the postage paid comment form enclosed in the newsletter. Overall the NPS received approximately 32 responses. Of the comments received, two were from businesses, two were from non-profit conservation organizations, two were from other federal agencies, and the remaining comments were from interested individuals. None of the comments received were opposed to or critical of the proposals for wilderness designation or boundary modification included within the plan. Most comments were supportive of the NPS preferred alternative, Alternative 2. Because the comments received required only minor changes involving only factual corrections or clarifications, the NPS has prepared an Abbreviated FEIS which includes an analysis of comments received on the Draft GMP/WS/EIS with NPS responses, errata sheets detailing editorial corrections to the DEIS, and copies of letters received from agencies and organizations. No substantial changes have been made to the alternatives or to the impact analyses presented in the Draft GMP/WS/EIS, and Alternative 2 remains the preferred alternative.

Range of Alternatives: Alternative 1 (no action)—Existing programming, facilities, staffing, and funding would generally continue at current levels to protect the values of Hawaii Volcanoes National Park. There would be no major changes in current management or visitor use. Implementation of currently approved plans would continue as funding allows. This alternative provides the baseline for evaluating actions and impacts in other alternatives.

Alternative 2 (agency preferred; environmentally preferred)—Strengthens and expands opportunities to connect people with the volcanic world treasure, Hawaii Volcanoes NP, and provide a wide range of high quality visitor experiences based on different geographic areas. Kīlauea summit would continue to be the most actively visited area of the park with the greatest concentration of services and amenities for park visitors. Along Chain of Craters Road and Mauna Loa Road, the park would strive to provide visitors with improved opportunities to experience and connect with park resources and values, including new opportunities at places like Mauna Ulu and Kealakomowaena, while dispersing use to create a less congested and more tranquil experience. At Kahuku, although visitor access and recreation opportunities would be expanded from what is currently offered, infrastructure and development would be minimal, gradually phased in over time, and remain rustic in design to allow for a primitive visitor experience. Natural and cultural resources would continue to be managed and protected with a high degree of integrity, consistent with direction provided by existing laws and policies. This alternative emphasizes the park's role as a refuge and haven for native biota, people, and cultures in a world constantly adapting to volcanic activity and island building processes. Native Hawaiian people and cultural values such as malama aina (nourishing or taking care of the land) and kuleana (responsibility), and perspectives from Native Hawaiian land management such as ahupuaa management (managing land from mauka (mountains) to makai (sea)), are incorporated as important concepts in park stewardship of resources. Native Hawaiian traditional ecological knowledge would be used to enhance current scientific understanding to protect park resources and provide additional interpretive and educational opportunities for visitors.

Alternative 3—Emphasizes building new connections with the park primarily through expanded education and hands-on stewardship opportunities. Traditional visitor opportunities would continue and capacity could be expanded at some existing sites to allow for increased visitation, but new development would be very limited and a suite of management tools would be used to disperse visitors and manage congestion throughout the park. A greater focus would be placed on science and learning opportunities for visitors from mauka (mountains) to makai (sea). The park would immerse visitors in the protection and restoration of native species and ecosystems by maximizing opportunities to participate in restoration activities and additional emphasis would be placed on providing opportunities for visitors to engage in research, scientific investigation, and projects associated with natural and cultural resources management, notably in Kahuku. This alternative also emphasizes the park's role as a refuge and haven for native biota, people, and cultures in a world constantly adapting to volcanic activity and island building processes. This alternative honors the Native Hawaiian people and culture by recognizing Native Hawaiian values, such as malama aina and kuleana, and perspectives from Native Hawaiian land management such as ahupuaa management (managing land from mauka to makai). Native Hawaiian traditional ecological knowledge would be used to enhance current scientific understanding to protect park resources and provide additional interpretive and educational opportunities for visitors.

Actions Common to All Alternatives—Many aspects of natural and cultural resource management (i.e., emphasis on restoring native ecosystems, preservation of wilderness character, and continued support for research), visitor use and experience (i.e., providing access to the iconic places and volcanic processes), park operations and concession services, and partner collaborations on a variety of issues (including coastal and shoreline management) are common to all alternatives. Moreover, flexibility in managing the park is necessary given proximity to two active volcanoes, and volcanic eruptions are possible at any time. Park management is influenced by the magnitude of individual events. Rather than provide specific recommendations park responses to a given event, the GMP provides general “adaptive management” guidance for managers facing volcanic activity in the future, notably with respect to facilities and infrastructure in the park.

Notably, in 1989 a 5.5 mile segment of the historic Chain of Craters Road through the park towards Kalapana and Pahoa was buried by lava flows. Due to change in the direction of other lava flows, in 2014 the remaining access to the Pahoa area became threatened. Consequently, an unpaved emergency access route was constructed along the old alignment. This route is only available for emergency access, in the event of existing access to Pahoa being cut off. Under all alternatives, when this route is no longer needed for emergency access, it could be used as an equestrian, biking, and hiking trail to provide for non-motorized visitor use—it would continue to be available in the future as an emergency route without compromising natural values and avoiding complexity of managing a new coastal entrance to the park.

Wilderness Study—Wilderness designation of 121,015 acres found eligible in the Kahuku Unit is proposed as an extension of existing wilderness within the park. Designation would advance the park's conservation vision for high-elevation protection of unique natural and cultural resources and create connectivity for park wilderness that would span from the summit of Mauna Loa Volcano all the way down its massive Southwest Rift. This rugged and remote environment offers outstanding opportunities for solitude and potential for high-challenge recreational hiking, and nearly all of this area is a place where the imprint of humans is scarcely noticeable, overpowered by the vast lava expanse and aura of wildness. Consistent with NPS policy, the park would continue to manage these eligible lands for their wilderness qualities prior to formal designation.

Decision Process: As noted above, not sooner than 30 days after the U.S. Environmental Protection Agency notice of filing of the FEIS/GMP/WS is published in the Federal Register, the NPS will execute a Record of Decision. Notice of GMP approval will be publicized on the park's Web site, via direct mailings, and through local and regional press media. Because this is a delegated EIS, the NPS official responsible for approval of the GMP is the Regional Director, Pacific West Region. Subsequently, the official responsible for project implementation is the Superintendent, Hawaii Volcanoes National Park.

Dated: December 17, 2015.
Martha J. Lee,
Acting Regional Director, Pacific West Region.

[FR Doc. 2016-05542 Filed 3-10-16; 8:45 am]

BILLING CODE 4312-FF-P